DEPARTMENT OF ENERGY

Federal Energy Regulatory Commission

[Project No. 11690-001-Alaska]

Alaska Village Electric Cooperative, Inc.; Notice of Availability of Draft Environmental Assessment

January 19, 2000.

In accordance with the National Environmental Policy Act of 1969 and the Federal Energy Regulatory Commission's (Commission) regulations, 18 CFR Part 380 (Order No. 486, 52 F.R. 47897), the Office of Hydropower Licensing has reviewed the application for an original license for Alaska Village Electric Cooperative, Inc.'s proposed Old Harbor Hydroelectric Project, and has prepared a Draft Environmental Assessment (DEA). The project would be located near the city of Old Harbor, Alaska on Kodiak Island, partly on the Kodiak National Wildlife Refuge. This DEA contains the Commission staff's analysis of the potential future environmental impacts of the project and has concluded that licensing the project, with appropriate environmental protective measures, would not constitute a major federal action that would significantly affect the quality of the human environment.

Copies of the DEA are available for review in the Commission's Public Reference Room, Room 2A, at 888 First Street, NE, Washington, DC 20426, and may also be viewed on the web at http://www.ferc.fed.us/online/rims.htm (please call (202) 208-2222 for assistance).

Any comments to this DEA should be filed within 45 days from the date of this notice and addressed to David P. Boergers, Secretary, Federal Energy Regulatory Commission, 888 First Street, NE, Washington, DC 20426. For further information, please contact Nan Allen, Project Coordinator, at (202) 219-2938.

David P. Boergers,
Secretary.

[FR Doc. 00-1752 Filed 1-25-00; 8:45 am]

BILLING CODE 6717-01-M